ENVIRONMENTAL PROTECTION AGENCY

40 CFR Part 49

[EPA-R08-OAR-2012-0479; FRL-9715-6]

Approval and Promulgation of Federal Implementation Plan for Oil and Natural Gas Well Production Facilities; Fort Berthold Indian Reservation (Mandan, Hidatsa, and Arikara Nations), North Dakota

AGENCY: Environmental Protection Agency (EPA).

ACTION: Proposed rule.

SUMMARY: EPA is proposing to promulgate a Reservation-specific Federal Implementation Plan in order to regulate emissions from oil and natural gas production facilities located on the Fort Berthold Indian Reservation located in North Dakota. The proposed Federal Implementation Plan includes basic air quality regulations for the protection of communities in and adjacent to the Fort Berthold Indian Reservation. The proposed Federal Implementation Plan requires owners and operators of oil and natural gas production facilities to reduce emissions of volatile organic compounds emanating from well completions, recompletions, and production and storage operations. This Federal Implementation Plan would be implemented by EPA, or a delegated Tribal Authority, until replaced by a Tribal Implementation Plan. EPA is issuing an interim final rule for a Reservation-specific Federal Implementation Plan, concurrently with this proposed rule, for a Reservation-specific Federal Implementation Plan and any additional information can be found within the interim final rule under the same title.

DATES: Written comments must be received on or before October 15, 2012.

Public Hearing: EPA will hold a public hearing on the following date: September 12, 2012. The hearing will start at 1 p.m. local time and continue until 4 p.m. or until everyone has had a chance to speak. Additionally, an evening session will be held from 6 p.m. until 8 p.m. The hearing will be held at the 4 Bears Casino & Lodge, 202 Frontage Rd, New Town, ND 58763, (701) 627-4018.

ADDRESSES: Submit your comments, identified by Docket ID No. EPA-R08-OAR-2012-0479, by one of the following methods:

• http://www.regulations.gov. Follow the on-line instructions for submitting comments.

• Email: r8airrulemakings@epa.gov

• Fax: (303) 312-6064 (please alert the individual listed in the FOR FURTHER INFORMATION CONTACT if you are faxing comments).

• Mail: Carl Daly, Director, Air Program, U.S. Environmental Protection Agency (EPA), Region 8, Mailcode 8P-AR, 1595 Wynkoop Street, Denver, Colorado 80202-1129.

• Hand Delivery: Carl Daly, Director, Air Program, U.S. Environmental Protection Agency (EPA), Region 8, Mailcode 8P-AR, 1595 Wynkoop Street, Denver, Colorado 80202-1129. Such deliveries are only accepted Monday through Friday, 8 a.m. to 4:30 p.m., excluding Federal holidays. Special arrangements should be made for deliveries of boxed information.

Instructions: Direct your comments to Docket ID No. EPA-R08-OAR-2012-0479. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA, without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly-available docket materials are available either electronically in http://www.regulations.gov or in hard copy at the following locations: Air Program, U.S. Environmental Protection Agency (EPA), Region 8, Mailcode 8P-AR, 1595 Wynkoop Street, Denver, Colorado 80202-1129; and Environmental Division, Three Affiliated Tribes, 204 West Main, New Town, North Dakota 58763-9404. EPA requests that if at all possible, you contact the individuals listed in the FOR FURTHER INFORMATION CONTACT section to view the hard copy of the docket. You may view the hard copy of the docket Monday through Friday, 8 a.m. to 4 p.m., excluding Federal holidays.

FOR FURTHER INFORMATION CONTACT: Deirdre Rothery, U. S. Environmental Protection Agency, Region 8, Air Program, Mail Code 8P-AR, 1595 Wynkoop Street, Denver, Colorado 80202-1129, (303) 312-6431, rothery.deirdre@epa.gov.

SUPPLEMENTARY INFORMATION: For further information on this proposed rule, please see the interim final action, of the same title, which is located in the Rules section of this Federal Register. EPA is taking this action as an interim final rule without prior proposal and public comment because EPA finds for good cause under section 553(b)(B) of the Administrative Procedure Act (APA), 5 U.S.C. 551 et seq. that notice-and-comment are impracticable, unnecessary or contrary to the public interest in this instance. Section 307(d) of the CAA states that in the case of any rule to which section 307(d) applies, notice of proposed rulemaking must be published in the Federal Register (CAA section 307(d)(3)). The promulgation or revision of regulations under section 110 of the CAA is generally subject to section 307(d). However, section 307(d) does not apply to any rule referred to in subparagraphs (A) or (B) of section 553(b) of the APA. Further discussion on EPA's determination on invoking the good cause exemption can be found in the interim final rule as well as a detailed rationale for our approval. The requirements in a subsequent final rule for this proposed rule are expected to supersede the requirements being promulgated in that interim final rule.

Note that Docket Number EPA-R08-OAR-2012-0479 is being used for both the interim final rule and the proposed rule.

EPA will address all public comments in a subsequent final rule based on this proposed rule. EPA will not institute a second comment period on this action. Any parties interested in commenting on this action should do so at this time.

List of Subjects in 40 CFR Part 49

Environmental protection, Administrative practice and procedure, Air pollution control, Indians, Intergovernmental relations, Reporting and recordkeeping requirements.

Dated: August 1, 2012.
James B. Martin,
Regional Administrator, Region 8.

[FR Doc. 2012-19697 Filed 8-14-12; 8:45 am]

BILLING CODE 6560-50-P